DEPARTMENT OF ENERGY

Federal Energy Regulatory Commission

[Docket No. ER00-2136-000]

Consumers Energy Company; Notice of Filing

April 11, 2000.

Take notice that on April 6, 2000, Consumers Energy Company (Consumers) tendered for filing an unexecuted Amendment No. 2 to its Service Agreement with Edison Sault Electric Company (Edison Sault) for Network Integration Transmission Service (designated Service Agreement No. 19 under Consumers Energy Company FERC Electric Tariff No. 6) and an unexecuted Amendment No. 1 to its Network Operating Agreement with Edison Sault (designated Supplement No. 1 to Service Agreement No. 19 under Consumers Energy Company FERC Electric Tariff No. 6) to reflect the addition of a new interconnection between Edison Sault and Wisconsin Electric Power Company.

The amendments are to be effective April 3, 2000.

Copies of the filing were served upon Edison Sault and the Michigan Public Service Commission.

Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions and protests should be filed on or before April 27, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-10057 Filed 4-21-00; 8:45 am]

BILLING CODE 6717-01-M